ENVIRONMENTAL PROTECTION AGENCY

[ORD-2003-0011, FRL-7568-1]

Agency Information Collection Activities: Proposed Collection; Comment Request; Longitudinal Field Measurement Study of Infant and Toddler's Aggregate Exposure to Pesticides and Persistent Pollutants, EPA ICR Number 2126.01, OMB Control Number 20XX-XXXX

AGENCY: Environmental Protection Agency (EPA).

ACTION: Notice.

SUMMARY: In compliance with the Paperwork Reduction Act (44 U.S.C. 3501 et seq.), this document announces that EPA is planning to submit a proposed Information Collection Request (ICR) to the Office of Management and Budget (OMB). This is a request for a new collection. Before submitting the ICR to OMB for review and approval, EPA is soliciting comments on specific aspects of the proposed information collection as described below.

DATES: Comments must be submitted on or before December 2, 2003.

ADDRESSES: Submit your comments, referencing docket ID number ORD-2003-0011, to EPA online using EDOCKET (our preferred method), by email to oei.docket@epa.gov, or by mail to: EPA Docket Center, Environmental Protection Agency, Office of Environmental Information Docket, Mail Code 28221T, 1200 Pennsylvania Ave., NW., Washington, DC 20460.

FOR FURTHER INFORMATION CONTACT: Interested persons may obtain a copy of this ICR without charge by contacting Barbara Blackwell, National Exposure Research Laboratory, MD-E-205-01, Environmental Protection Agency, 109 TW Alexander Dr., Research Triangle Park, NC 27709; telephone number: (919) 541-2886; fax number: (919) 541-0239; email address: blackwell.barbara@epa.gov. For technical information on the proposed study, contact the Co-Principal investigators: Nicolle S. Tulve, National Exposure Research Laboratory, MD-E-205-04, Environmental Protection Agency, 109 TW Alexander Dr., Research Triangle Park, NC 27709; (919) 541-1077; (919) 541-0905 (fax); tulve.nicolle@epa.gov or Roy Fortmann, National Exposure Research Laboratory, MD-E-205-04, Environmental Protection Agency, 109 TW Alexander Dr., Research Triangle Park, NC 27709; (919) 541-1021; (919) 541-0905 (fax); fortmann.roy@epa.gov.

SUPPLEMENTARY INFORMATION: EPA has established a public docket for this ICR under Docket ID number ORD-2003-0011, which is available for public viewing at the Office of Environmental Information Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Office of Environmental Information Docket is (202) 566-1752. An electronic version of the public docket is available through EPA Dockets (EDOCKET) at http://www.epa.gov/edocket. Use EDOCKET to obtain a copy of the draft collection of information, submit or view public comments, access the index listing of the contents of the public docket, and to access those documents in the public docket that are available electronically. Once in the system, select “search,” then key in the docket ID number identified above.

Any comments related to this ICR should be submitted to EPA within 60 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to www.epa.gov./edocket.

Affected entities: Entities potentially affected by this action are persons living in Duval County, Florida.

Title: Longitudinal Field Measurement Study of Infant and Toddler's Aggregate Exposure to Pesticides and Persistent Pollutants.

Abstract: The U.S. EPA's Office of Research and Development's National Exposure Research Laboratory proposes to conduct a 2-year longitudinal field measurement study of young children's (aged 0 to 3 years) potential exposures to current-use pesticides and selected phthalates, polybrominated diphenyl ethers, and perfluorinated compounds that may be found in residential environments. The study will be conducted in Duval County, Jacksonville, Florida over a two-year period from 2004 to 2006. Sixty young children will be recruited into this study in two cohorts: (1) Infants recruited into the study soon after birth, and, (2) children recruited into the study at approximately 12 months of age. The study involves up to six monitoring events to each home during the 2-year study period during which environmental, personal, biological, and activity pattern data will be collected. Each monitoring event consists of 4 visits to each participant's home. Aggregate exposure estimates will be conducted for the current-use pesticides and selected phthalates in the study. The data collected on the polybrominated diphenyl ethers and the perfluorinated compounds will provide valuable information on concentrations of these compounds in residential environments, the potential magnitude for exposure, and the temporal and spatial variability of these chemicals in residences.

The data collected in this study is very important to the EPA's Program Offices. The reasons for collecting this data are to better identify the exposure factors, routes, and pathways of exposure for these chemicals, thus improving the Agency's ability to regulate these chemicals, conduct meaningful risk assessments, and develop future studies. Responses to the survey are completely voluntary. Further details on the peer-reviewed study design and the complete set of questionnaires are available for public viewing in the on-line EDOCKET at http://www.epa.gov/edocket.

An Agency may not conduct or sponsor, and a person is not required to respond to, a collection of information unless it displays a currently valid OMB control number. The OMB control numbers for EPA's regulations in 40 CFR are listed in 40 CFR part 9.

The EPA would like to solicit comments to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: The questionnaires for this study are listed in Table 1 with their associated hour burdens.

Table 1.—Listing of Questionnaires With Their Associated Hour Burdens
[The total time burden is based on 60 people participating for the entire two-year study]
Questionnaire | Time burden (minutes) | Number of respondents | Number of times questionnaire asked during study to each participant | Total time burden (minutes)
Eligibility screening questionnaire | 10 | 120 | 1 | 1200
Home pesticide inventory and use screening questionnaire | 10 | 60 | 1 | 600
Participant and housing characteristics questionnaire | 35 | 60 | 1 | 2100
Monitoring visit questionnaire | 10 | 60 | 6 | 3600
Activity time line | 15 | 60 | 18 | 16200
Indirect ingestion assessment questionnaire | 13 | 60 | 6 | 4680
Food diary and supplemental questionnaire | 10 | 60 | 6 | 3600
Monthly pesticide purchase and use log | 5 | 60 | 24 | 3600
Child care center pesticide use questionnaire | 10 | 6 | 5 | 300
Antimicrobial inventory log | 10 | 60 | 1 | 600
Antimicrobial use log | 1 | 60 | 24 | 1440
Vineland Adaptive Behavioral Scales | 20 | 60 | 6 | 7200

Potential participants will be screened and recruited into the study using the Eligibility screening questionnaire and the Home pesticide inventory and use screening questionnaire. These survey instruments will be administered electronically by the field technicians. The remaining questionnaires listed in Table 1 are administered after each participant is enrolled into the study during the monitoring events. The Participant and housing characteristics questionnaire will require a one-time period of 35 minutes to complete. The Monitoring visit questionnaire will be completed at the conclusion of each monitoring event and takes 10 minutes to complete. The Activity time line will be completed by the participant for three days during the monitoring event (15 minutes to complete multiplied by 3 days of completion equals 45 minutes for the monitoring event per participant). The Indirect ingestion assessment questionnaire will be completed at the conclusion of each monitoring event. It will take 13 minutes to complete. The Food diary and supplemental questionnaire will be completed by the participant. The participant uses this questionnaire to record the foods that are collected for the duplicate diet. The Food diary and supplemental questionnaire will require 10 minutes to complete. The Monthly pesticide purchase and use log will be completed by the participant on a monthly basis. This log is used to record pesticide application and use events in the residence. It will take 5 minutes to complete this log during the month. The Child care center pesticide use questionnaire will be administered to child care center directors for those children who attend child care during the monitoring event. It is anticipated that less than 10% of the participants will attend day care, so this questionnaire will be used infrequently. However, if used, it is administered directly to the center director and takes 10 minutes to complete. The Antimicrobial inventory log is administered once during the study. It is completed by the field technician with the help of the participant and takes 10 minutes to complete. The Antimicrobial use log is completed each month by the participant. This log requires a check mark if the product was used that day. This log will require approximately 1 minute to complete. The Vineland Adaptive Behavioral Scales will be administered during each monitoring event. It will take 20 minutes to complete. Over the course of each four-day monitoring event, the total time burden will be 149 minutes per participant. There are projected to be 60 participants enrolled into the study. The total participant time burden for each monitoring event will be 8940 minutes.

There are no direct participant costs for this data collection. Participants will be reimbursed for the costs of electricity used and food collected. Compensation will be offered to defray the burden associated with participating in this study.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: September 24, 2003.
Jewel F. Morris,
Acting Director, National Exposure Research Laboratory.

[FR Doc. 03-25132 Filed 10-2-03; 8:45 am]

BILLING CODE 6560-50-P